DEPARTMENT OF ENERGY

Federal Energy Regulatory Commission

[Docket No. RP03-20-001]

Transwestern Pipeline Company; Notice of Compliance Filing

November 29, 2002.

Take notice that on November 25, 2002, Transwestern Pipeline Company (Transwestern) tendered for filing as part of its FERC Gas Tariff, Second Revised Volume No. 1, Substitute Fourth Revised Sheet No. 95J, to become effective November 11, 2002.

Transwestern states that on October 11, 2002, Transwestern proposed tariff revisions setting forth the criteria that would permit Transwestern to terminate a temporary capacity release (October 11 Filing). Specifically, Transwestern added a new section 30.4 (g) to Transwestern's General Terms and Conditions, Transporter's Right to Terminate a Temporary Capacity Release. Under this new section Transwestern proposed two conditions by which Transwestern would terminate a temporary capacity release upon 30-days' written notice. Those conditions were that: (1) The Releasing Shipper had failed to maintain creditworthiness in accordance with Rate Schedule FTS-1 and Sections 13 and 30 of the General Terms and Conditions of Transwestern's Tariff, and (2) that the rate stated in the effective Replacement Shipper's Service Agreement is less than the Releasing Shipper's contract rate. Transwestern states that on November 8, 2002, the Federal Energy Regulatory Commission (“Commission”) issued an order (“Order”) accepting the proposed tariff revisions subject to Transwestern modifying the provisions to provide that Transwestern may terminate the contract with the Replacement Shipper only after it has terminated the contract with the Releasing Shipper. The instant filing reflects the modification directed by the Commission's Order. However, Transwestern requests that the Commission defer action on accepting and making the modification effective until after ruling on the request for rehearing, which Transwestern is filing concurrent with the instant filing.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30832 Filed 12-5-02; 8:45 am]

BILLING CODE 6717-01-P